FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011453-001.

Title: Southern Africa/Oceania Agreement.

Parties: Safmarine Container Lines N.V.; Mediterranean Shipping Co. S.A.; A.P. Moller-Maersk Sealand.

Synopsis: The proposed amendment changes one party to reflect a corporate change, increases the maximum dry and reefer container capacity under the agreement, and extends the earliest date for notice of withdrawal.

Agreement No.: 011783.

Title: Lykes/Italia di Navigazione SpA Space Charter and Sailing Agreement.

Parties: Lykes Lines Limited, LLC; Italia di Navigazione SpA.

Synopsis: The proposed agreement authorizes Italia to charter space from Lykes in the trade between ports in the Dominican Republic, Mexico, Costa Rica, Panama, and the Caribbean coasts of Colombia and Venezuela and the U.S. Gulf coast.

By Order of the Federal Maritime Commission.
Dated: December 14, 2001.
Bryant L. VanBrakle,
Secretary.

[FR Doc. 01-31268 Filed 12-18-01; 8:45 am]

BILLING CODE 6730-01-P